Title 3—

The President

Proclamation 10692 of December 29, 2023

To Take Certain Actions Under the African Growth and Opportunity Act and for Other Purposes

By the President of the United States of America

A Proclamation

1. In Proclamation 9834 of December 21, 2018, the President determined that the Islamic Republic of Mauritania (Mauritania) was not making continual progress in meeting the requirements described in section 506A(a)(1) of the Trade Act of 1974, as amended (the “Trade Act”), as added by section 111(a) of the African Growth and Opportunity Act (the “AGOA”) (title I of Public Law 106-200, 114 Stat. 251, 257-58), 19 U.S.C. 2466a(a)(1). Thus, pursuant to section 506A(a)(3) of the Trade Act (19 U.S.C. 2466a(a)(3)), the President terminated the designation of Mauritania as a beneficiary sub-Saharan African country for purposes of section 506A(a)(1) of the Trade Act.

2. Section 506A(a)(1) of the Trade Act authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the Trade Act (19 U.S.C. 2462).

3. Pursuant to section 506A(a)(1) of the Trade Act, based on actions the Government of Mauritania has taken, I have determined that Mauritania meets the eligibility requirements set forth in section 104 of the AGOA and the eligibility criteria set forth in section 502 of the Trade Act, and I have decided to designate Mauritania as a beneficiary sub-Saharan African country.

4. Section 112(c) of the AGOA, as amended in section 6002(a)(3) of the Africa Investment Incentive Act of 2006 (division D, title VI, Public Law 109-432, 120 Stat. 2922, 3190-93), 19 U.S.C. 3721(c), provides special rules for certain apparel articles imported from “lesser developed beneficiary sub-Saharan African countries.”

5. I have also determined that Mauritania satisfies the criterion for treatment as a “lesser developed beneficiary sub-Saharan African country” under section 112(c) of the AGOA.

6. In Proclamation 7350 of October 2, 2000, the President initially designated the Central African Republic, the Gabonese Republic (Gabon), Republic of Niger (Niger), and the Republic of Uganda (Uganda) as beneficiary sub-Saharan African countries for purposes of section 506A(a)(1) of the Trade Act.

7. Section 506A(a)(3) of the Trade Act provides that the President shall terminate the designation of a country as a beneficiary sub-Saharan African country for purposes of section 506A if the President determines that the country is not meeting the requirements described in section 506A(a)(1) of the Trade Act.

8. Pursuant to section 506A(a)(3) of the Trade Act, I have determined that the Central African Republic, Gabon, Niger, and Uganda do not meet the requirements described in section 506A(a)(1) of the Trade Act. Accordingly, I have decided to terminate the designations of the Central African Republic, Gabon, Niger, and Uganda as beneficiary sub-Saharan African countries for purposes of section 506A of the Trade Act, effective January 1, 2024.

9. On April 22, 1985, the United States and Israel entered into the Agreement on the Establishment of a Free Trade Area between the Government of the United States of America and the Government of Israel (USIFTA), which the Congress approved in section 3 of the United States-Israel Free Trade Area Implementation Act of 1985 (the “USIFTA Implementation Act”) (Public Law 99-47, 99 Stat. 82 (19 U.S.C. 2112 note)). Section 4(b) of the USIFTA Implementation Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA. In order to maintain the general level of reciprocal and mutually advantageous concessions with respect to agricultural trade with Israel, on July 27, 2004, the United States entered into an agreement with Israel concerning certain aspects of trade in agricultural products during the period January 1, 2004, through December 31, 2008 (United States-Israel Agreement Concerning Certain Aspects of Trade in Agricultural Products (the “2004 Agreement”)).

10. In Proclamation 7826 of October 4, 2004, the President determined, pursuant to section 4(b) of the USIFTA Implementation Act and consistent with the 2004 Agreement, that, in order to maintain the general level of reciprocal and mutually advantageous concessions with respect to Israel provided for by the USIFTA, it was necessary to provide duty-free access into the United States through December 31, 2008, for specified quantities of certain agricultural products of Israel. Each year from 2008 through 2022, the United States and Israel entered into agreements to extend the period that the 2004 Agreement was in force for 1-year periods to allow additional time for the two governments to conclude an agreement to replace the 2004 Agreement. To carry out the extension agreements, the President in Proclamations 8334 of December 31, 2008; 8467 of December 23, 2009; 8618 of December 21, 2010; 8770 of December 29, 2011; 8921 of December 20, 2012; 9072 of December 23, 2013; 9223 of December 23, 2014; 9383 of December 21, 2015; 9555 of December 15, 2016; 9687 of December 22, 2017; 9834 of December 21, 2018; 9974 of December 26, 2019; 10128 of December 22, 2020; 10326 of December 23, 2021; and 10509 of December 23, 2022, modified the Harmonized Tariff Schedule of the United States (HTS) to provide duty-free access into the United States for specified quantities of certain agricultural products of Israel, each time for an additional 1-year period. On November 13, 2023, the United States entered into an agreement with Israel to extend the period that the 2004 Agreement is in force for an additional 1-year period, through December 31, 2024, to allow for further negotiations on an agreement to replace the 2004 Agreement. Pursuant to section 4(b) of the USIFTA Implementation Act, I have determined that it is necessary, in order to maintain the general level of reciprocal and mutually advantageous concessions with respect to Israel provided for by the USIFTA, to provide duty-free access into the United States for an additional 1-year period, through the close of December 31, 2024, for specified quantities of certain agricultural products of Israel, as provided in Annex I of this proclamation.

11. Section 604 of the Trade Act, as amended (19 U.S.C. 2483), authorizes the President to embody in the HTS the substance of the relevant provisions of that Act, and of other acts affecting import treatment, and actions taken thereunder, including the removal, modification, continuance, or imposition of any rate of duty or other import restriction.

NOW, THEREFORE, I, JOSEPH R. BIDEN JR., President of the United States of America, by virtue of the authority vested in me by the Constitution and the laws of the United States of America, including but not limited to section 111(a) of the AGOA, sections 506A(a)(1) and 506A(a)(3) of the Trade Act, section 4(b) of the USIFTA Implementation Act, and section 604 of the Trade Act, as amended, do proclaim that:

(1) Mauritania is designated as a beneficiary sub-Saharan African country for purposes of section 506A of the Trade Act.

(2) In order to reflect this designation in the HTS, general note 16(a) to the HTS is modified by inserting in alphabetical sequence in the list of beneficiary sub-Saharan African countries “Islamic Republic of Mauritania”.

(3) For purposes of section 112(c) of the AGOA, Mauritania is a lesser developed beneficiary sub-Saharan African country.

(4) In order to provide the tariff treatment intended under section 112(c) of the AGOA, note 2(d) to subchapter XIX of chapter 98 of the HTS is modified by inserting in alphabetical sequence in the list of lesser developed beneficiary sub-Saharan African countries “Islamic Republic of Mauritania;”.

(5) The designations of the Central African Republic, Gabon, Niger, and Uganda as beneficiary sub-Saharan African countries for purposes of section 506A of the Trade Act are terminated, effective January 1, 2024.

(6) In order to reflect in the HTS that beginning January 1, 2024, the Central African Republic, Gabon, Niger, and Uganda shall no longer be designated as beneficiary sub-Saharan African countries, general note 16(a) to the HTS is modified by deleting “Central African Republic”, “Gabonese Republic”, “Republic of Niger”, and “Republic of Uganda” from the list of beneficiary sub-Saharan African countries. Note 7(a) to subchapter II and note 1 to subchapter XIX of chapter 98 of the HTS are each modified by deleting “Uganda” from the list of beneficiary countries. Further, note 2(d) to subchapter XIX of chapter 98 of the HTS is modified by deleting “Central African Republic;”, “Niger;”, and “Republic of Uganda;” from the list of lesser developed beneficiary sub-Saharan African countries.

(7) The modifications to the HTS set forth in paragraphs (1) through (6) of this proclamation shall be effective with respect to goods entered for consumption, or withdrawn from warehouse for consumption, on or after January 1, 2024.

(8) In order to implement tariff commitments under the 2004 Agreement through December 31, 2024, the HTS is modified as set forth in Annex I of this proclamation.

(9) The modifications and technical rectifications to the HTS made by Annex I of this proclamation shall enter into effect on the applicable dates set forth in Annex I of this proclamation.

(10) Any provisions of previous proclamations and Executive Orders that are inconsistent with the actions taken in this proclamation are superseded to the extent of such inconsistency.

IN WITNESS WHEREOF, I have hereunto set my hand this twenty-ninth day of December, in the year of our Lord two thousand twenty-three, and of the Independence of the United States of America the two hundred and forty-eighth.

Billing code 3395-F4-P

[FR Doc. 2024-00051

Filed 1-3-24; 8:45 am]

Billing code 7020-02-C